ELECTION ASSISTANCE COMMISSION

Sunshine Act Notice

AGENCY: United States Election Assistance Commission.

ACTION: Notice of public meeting for the Technical Guidelines Development Committee.

DATES AND TIME: Tuesday, January 18, 2005 9 a.m.-5 p.m. and Wednesday, January 19, 2005 9 a.m.-5 p.m.

PLACE: National Institute of Standards and Technology, 100 Bureau Drive, Building 101, Gaithersburg, Maryland 20899-8900.

STATUS: This meeting will be open to the public. Due to security requirements advance registration is required. Registration information is available at http://vote.nist.gov. Advance reservation is available until January 12, 2005. There is no fee to attend.

SUMMARY: The Technical Guidelines Development Committee (the “Development Committee”) has scheduled a plenary meeting for January 18 & 19, 2005. The Committee was established pursuant to 42 U.S.C. 15361(b)(1), to act in the public interest to assist the Executive Director of the Election Assistance Commission in the development of the voluntary voting system guidelines. The Committee held its first organizational meeting on July 9th, 2004. The purpose of this second meeting of the Committee will be to review and approve an outline plan to establish recommendations for voluntary voting system guidelines.

CONTACT INFORMATION: Allan Eustis 301-975-5099. If a member of the public would like to submit written comments concerning the Committee's affairs at any time before and after the meeting, written comments should be addressed to the contact person indicated above, or to Voting@nist.gov.

DeForest B. Soaries, Jr.,
Chairman, U.S. Election Assistance Commission.

[FR Doc. 04-28054 Filed 12-17-04; 4:03 pm]

BILLING CODE 6820-YN-M